DEPARTMENT OF ENERGY

Federal Energy Regulatory Commission

Combined Notice of Filings #2

Take notice that the Commission received the following electric corporate filings:

Docket Numbers: EC14-61-000.

Applicants: New Harquahala Generating Company, LLC, New Athens Generating Company, LLC, Millennium Power Partners, L.P., MACH Gen, LLC.

Description: Response to Request for Additional Information of MACH Gen, LLC, et al.

Filed Date: 5/1/14.

Accession Number: 20140501-5281.

Comments Due: 5 p.m. ET 5/8/14.

Take notice that the Commission received the following electric rate filings:

Docket Numbers: ER10-2298-005.

Applicants: Enserco Energy LLC.

Description: Amendment to Notice of Change in Status to be effective 6/11/2014.

Filed Date: 5/1/14.

Accession Number: 20140501-5199.

Comments Due: 5 p.m. ET 5/22/14.

Docket Numbers: ER11-2154-004.

Applicants: Twin Eagle Resource Management, LLC.

Description: Amendment to Change in Status to be effective 6/11/2014.

Filed Date: 5/1/14.

Accession Number: 20140501-5198.

Comments Due: 5 p.m. ET 5/22/14.

Docket Numbers: ER13-1857-000; EL14-3-000.

Applicants: Idaho Power Company.

Description: Supplement to April 3, 2014 Response to request for additional information regarding delivered price test analysis filed on November 7, 2013 of Idaho Power Company.

Filed Date: 4/29/14.

Accession Number: 20140429-5098.

Comments Due: 5 p.m. ET 5/20/14.

Docket Numbers: ER14-776-003.

Applicants: Ohio Valley Electric Corporation.

Description: Ohio Valley Electric Corporation submits tariff filing per 35: Amendment to Point to Point Transmission Service to be effective 11/12/2013.

Filed Date: 5/1/14.

Accession Number: 20140501-5272.

Comments Due: 5 p.m. ET 5/22/14.

Docket Numbers: ER14-1245-000.

Applicants: FirstEnergy Solutions Corp.

Description: Motion of FirstEnergy Solutions Corp. for Shortened Notice Period for the April 29, 2014 submission.

Filed Date: 4/30/14.

Accession Number: 20140430-5619.

Comments Due: 5 p.m. ET 5/12/14.

Docket Numbers: ER14-1630-002.

Applicants: Mantua Creek Solar, LLC.

Description: Mantua Creek Solar, LLC submits tariff filing per 35.17(b): Mantua Creek Solar, LLC Amendment to Application for MBR and Tariff to be effective 4/1/2014.

Filed Date: 5/1/14.

Accession Number: 20140501-5303.

Comments Due: 5 p.m. ET 5/22/14.

Docket Numbers: ER14-1833-000.

Applicants: Midcontinent Independent System Operator, Inc.

Description: 2014-05-01_SA 1756 METC-Consumers (G479B) to be effective 5/2/2014..

Filed Date: 5/1/14.

Accession Number: 20140501-5143.

Comments Due: 5 p.m. ET 5/22/14.

Docket Numbers: ER14-1834-000.

Applicants: New England Power Pool Participants Committee.

Description: May 2014 Membership Filing to be effective 5/1/2014.

Filed Date: 5/1/14.

Accession Number: 20140501-5146.

Comments Due: 5 p.m. ET 5/22/14.

Docket Numbers: ER14-1835-000.

Applicants: Midcontinent Independent System Operator, Inc.

Description: Midcontinent Independent System Operator, Inc. submits tariff filing per 35.13(a)(2)(iii): 2014-05-01 BOD Expansion to be effective 7/1/2014.

Filed Date: 5/1/14.

Accession Number: 20140501-5239.

Comments Due: 5 p.m. ET 5/22/14.

Docket Numbers: ER14-1836-000.

Applicants: Southwestern Public Service Company.

Description: Southwestern Public Service Company submits tariff filing per 35.15: 5-1-14_RS139_141_143 NOCs to be effective 3/1/2014.

Filed Date: 5/1/14.

Accession Number: 20140501-5249.

Comments Due: 5 p.m. ET 5/22/14.

Docket Numbers: ER14-1837-000.

Applicants: Southwestern Public Service Company.

Description: Southwestern Public Service Company submits tariff filing per 35.15: 5-1-14_RS145 NOT Filing to be effective 3/1/2014.

Filed Date: 5/1/14.

Accession Number: 20140501-5250.

Comments Due: 5 p.m. ET 5/22/14.

Docket Numbers: ER14-1838-000.

Applicants: 511 Plaza Energy, LLC.

Description: 511 Plaza Energy, LLC submits tariff filing per 35.15: Cancellation of MBR Tariff to be effective 5/1/2014.

Filed Date: 5/1/14.

Accession Number: 20140501-5276.

Comments Due: 5 p.m. ET 5/22/14.

Docket Numbers: ER14-1839-000.

Applicants: Sargent Canyon Cogeneration Company.

Description: Sargent Canyon Cogeneration Company submits tariff filing per 35.13(a)(2)(iii): Revisions to market-based rate tariff to be effective 5/1/2014.

Filed Date: 5/1/14.

Accession Number: 20140501-5277.

Comments Due: 5 p.m. ET 5/22/14.

Docket Numbers: ER14-1840-000.

Applicants: Coalinga Cogeneration Company.

Description: Coalinga Cogeneration Company submits tariff filing per 35.13(a)(2)(iii): Change in status and revisions to MBR tariff to be effective 5/1/2014.

Filed Date: 5/1/14.

Accession Number: 20140501-5279.

Comments Due: 5 p.m. ET 5/22/14.

Docket Numbers: ER14-1841-000.

Applicants: Kern River Cogeneration Company.

Description: Kern River Cogeneration Company submits tariff filing per 35.13(a)(2)(iii): Change in status and revisions to MBR tariff to be effective 5/1/2014.

Filed Date: 5/1/14.

Accession Number: 20140501-5282.

Comments Due: 5 p.m. ET 5/22/14.

Docket Numbers: ER14-1842-000.

Applicants: Mid-Set Cogeneration Company.

Description: Mid-Set Cogeneration Company submits tariff filing per 35.13(a)(2)(iii): Change in status and revisions to MBR tariff to be effective 5/1/2014.

Filed Date: 5/1/14.

Accession Number: 20140501-5285.

Comments Due: 5 p.m. ET 5/22/14.

Docket Numbers: ER14-1843-000.

Applicants: Salinas River Cogeneration Company.

Description: Salinas River Cogeneration Company submits tariff filing per 35.13(a)(2)(iii): Change in status and revisions to MBR tariff to be effective 5/1/2014.

Filed Date: 5/1/14.

Accession Number: 20140501-5287.

Comments Due: 5 p.m. ET 5/22/14.

Docket Numbers: ER14-1844-000.

Applicants: Sycamore Cogeneration Company.

Description: Sycamore Cogeneration Company submits tariff filing per 35.13(a)(2)(iii): Change in status and revisions to MBR tariff to be effective 5/1/2014.

Filed Date: 5/1/14.

Accession Number: 20140501-5293.

Comments Due: 5 p.m. ET 5/22/14.

Take notice that the Commission received the following electric securities filings:

Docket Numbers: ES14-40-000.

Applicants: Potomac Electric Power Company, Delmarva Power & Light Company, PHI Service Company.

Description: Joint Application to Issue Securities of PHI Service Company on behalf of Delmarva Power & Light Company and Potomac Electric Power Company.

Filed Date: 4/30/14.

Accession Number: 20140430-5618.

Comments Due: 5 p.m. ET 5/21/14.

Take notice that the Commission received the following land acquisition reports:

Docket Numbers: LA14-1-000.

Applicants: E.ON Global Commodities North America LLC, EC&R O&M, LLC, Munnsville Wind Farm, LLC, Pioneer Trail Wind Farm, LLC, Settlers Trail Wind Farm, LLC, Stony Creek Wind Farm, LLC, Wildcat Wind Farm I, LLC.

Description: Quarterly Land Acquisition Report of the E.ON CRNA Sellers under LA14-1.

Filed Date: 4/30/14.

Accession Number: 20140430-5611.

Comments Due: 5 p.m. ET 5/21/14.

Docket Numbers: LA14-1-000.

Applicants: Ashtabula Wind, LLC, Ashtabula Wind II, LLC, Ashtabula Wind III, LLC, Backbone Mountain Windpower LLC, Badger Windpower, LLC, Baldwin Wind, LLC, Bayswater Peaking Facility, LLC, Blackwell Wind, LLC, Butler Ridge Wind Energy Center, LLC, Cimarron Wind Energy, LLC, Crystal Lake Wind, LLC, Crystal Lake Wind II, LLC, Crystal Lake Wind III, LLC, Day County Wind, LLC, Diablo Winds, LLC, Desert Sunlight 250, LLC, Desert Sunlight 300, LLC, Elk City Wind, LLC, Elk City II Wind, LLC, Energy Storage Holdings, LLC, Ensign Wind, LLC, ESI Vansycle Partners, L.P., Florida Power & Light Co., FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL Energy Marcus Hook, L.P., FPL Energy MH50 L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, LLC, FPL Energy Wyman, LLC, FPL Energy Wyman IV, LLC, Garden Wind, LLC, Genesis Solar, LLC, Gray County Wind Energy, LLC, Hatch Solar Energy Center I, LLC, Hawkeye Power Partners, LLC, High Majestic Wind Energy Center, LLC, High Winds, LLC, High Majestic Wind II, LLC, Jamaica Bay Peaking Facility, LLC, Lake Benton Power Partners II, LLC, Langdon Wind, LLC, Limon Wind, LLC, Limon Wind II, LLC, Logan Wind Energy LLC, Mantua Creek Solar, LLC, Meyersdale Windpower LLC, Mill Run Windpower, LLC, Minco Wind, LLC, Minco Wind II, LLC, Minco Wind III, LLC, Minco Wind Interconnection Services, LLC, Mountain View Solar, LLC, NEPM II, LLC, NextEra Energy Duane Arnold, LLC, NextEra Energy Montezuma II Wind, LLC, NextEra Energy Power Marketing, LLC, NextEra Energy Point Beach, LLC, NextEra Energy Seabrook, LLC, NextEra Energy Services Massachusetts, LLC, Northeast Energy Associates, A Limited Partnership, North Jersey Energy Associates, A Limited Partnership, North Sky River Energy, LLC, Northern Colorado Wind Energy, LLC, Osceola Windpower, LLC, Osceola Windpower II, LLC, Paradise Solar Urban Renewal, L.L.C., Peetz Table Wind Energy, LLC, Pennsylvania Windfarms, Inc., Perrin Ranch Wind, LLC, Pheasant Run Wind, LLC, Pheasant Run Wind II, LLC, Red Mesa Wind, LLC, Sky River LLC, Somerset Windpower, LLC, Steele Flats Wind Project, LLC, Story Wind, LLC, Tuscola Bay Wind, LLC, Tuscola Wind II, LLC, Vasco Winds, LLC, Waymart Wind Farm, L.P., Wessington Wind Energy Center, LLC, White Oak Energy LLC, Wilton Wind II, LLC, Windpower Partners 1993, L.P.

Description: Quarterly Land Acquisition Report of the NextEra Energy Companies.

Filed Date: 4/30/14.

Accession Number: 20140430-5612.

Comments Due: 5 p.m. ET 5/21/14.

Docket Numbers: LA14-1-000.

Applicants: All Dams Generation, LLC, Arlington. Valley Solar Energy II, LLC, Bluegrass Generation Company, L.L.C., Calhoun Power Company, LLC, Centinela Solar Energy, LLC, Cherokee County Cogeneration Partners, LLC, DeSoto County Generating Company, LLC, Doswell Limited Partnership, Lake Lynn Generation, LLC, Las Vegas Power Company, LLC, LS Power Marketing, LLC, LSP University Park, LLC, PE Hydro Generation, LLC, Renaissance Power, L.L.C., Riverside Generating Company, L.L.C., Rocky Road Power, LLC, Seneca Generation, LLC, Tilton Energy LLC, University Park Energy, LLC, Wallingford Energy LLC, West Deptford Energy, LLC.

Description: Quarterly Land Acquisition Report of the LS MBR Sellers.

Filed Date: 4/30/14.

Accession Number: 20140430-5613.

Comments Due: 5 p.m. ET 5/21/14.

Docket Numbers: LA14-1-000.

Applicants: Beebe Renewable Energy, LLC, Exelon Generation Company, LLC, Harvest Windfarm, LLC, Harvest II Windfarm, LLC, Michigan Wind 1, LLC, Michigan Wind 2, LLC, Constellation Mystic Power, LLC, Exelon Framingham LLC, Exelon New Boston, LLC, Exelon West Medway LLC, Exelon Wyman, LLC, Nine Mile Point Nuclear Station, LLC, R.E. Ginna Nuclear Power Plant, LLC, Calvert Cliffs Nuclear Power Plant, LLC, Constellation Power Source Generation, LLC, Criterion Power Partners, LLC, Handsome Lake Energy, LLC, Safe Harbor Water Power Corporation, Cassia Gulch Wind Park LLC, High Mesa Energy, LLC, Tuana Springs Energy, LLC, CER Generation II, LLC, Cow Branch Wind Power, L.L.C., CR Clearing, LLC, Wind Capital Holdings, LLC, CER Generation, LLC, AV Solar Ranch 1, LLC, Exelon Wind 4, LLC,Wildcat Wind, LLC, Shooting Star Wind Project, LLC, Baltimore Gas and Electric Company, Commonwealth Edison Company, Constellation Energy Commodities Group Maine, LLC, Constellation NewEnergy, Inc., PECO Energy Company.

Description: Quarterly Land Acquisition Report of the Exelon MBR entities.

Filed Date: 4/30/14.

Accession Number: 20140430-5614.

Comments Due: 5 p.m. ET 5/21/14.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2014.
Kimberly D. Bose,
Secretary.

[FR Doc. 2014-10584 Filed 5-7-14; 8:45 am]

BILLING CODE 6717-01-P